DEPARTMENT OF JUSTICE

Notice of Lodging of Consent Decree Under the Clean Water Act

Notice is hereby given that on May 18, 2011, a proposed Consent Decree (“Decree”) in United States of America, State of Texas, and State of Oklahoma v. Mahard Egg Farm, Inc., Civil Action No. 3:11-cv-01031-N, was lodged with the United States District Court for the Northern District of Texas (Dallas Division).

In this action, the United States, on behalf of the U.S. Environmental Protection Agency (“U.S. EPA”), together with the States of Texas and Oklahoma, sought penalties and injunctive relief under the Clean Water Act (“CWA”) against Mahard Egg Farm, Inc., for violations of Concentrated Animal Feeding Operation (“CAFO”) general permit and related laws and regulations. Specifically, the Complaint alleges that Mahard discharged pollutants or otherwise failed to comply with the terms of its permits at six other facilities, including its newest facility near Vernon, Tex., where it also failed to comply with the Texas Construction Storm Water General Permit and to ensure safe drinking water for its employees. The states of Texas and Oklahoma also alleged similar violations of state laws.

Under the proposed Consent Decree, the Defendants will pay a civil penalty and take steps to bring each of its seven CAFO facilities into compliance with applicable state and federal laws, permits, and regulations, and to restore the lands so as to prevent future discharges to area waterways. The settlement mandates the performance of specific requirements, such as proper lagoon closures, groundwater monitoring, and the construction and maintenance of buffer strips along area waterways within the facility boundaries. It also requires on-going land restoration and management measures, such as restrictions on the land-application of manure and on livestock grazing.

The Department of Justice will receive for a period of thirty (30) days from the date of this publication comments relating to the Decree. Comments should be addressed to the Assistant Attorney General, Environment and Natural Resources Division, P.O. Box 7611, U.S. Department of Justice, Washington, DC 20044-7611, and either e-mailed to pubcomment-ees.enrd@usdoj.gov or mailed to P.O. Box 7611, U.S. Department of Justice, Washington, DC 20044-7611, and should refer to United States of America, State of Texas, and State of Oklahoma v. Mahard Egg Farm, Inc., Civil Action No. No. 3:11-cv-01031-N, (N.D. Tex.), D.J. Ref. 90-5-1-1-09279.

During the public comment period, the Decree may be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usoj.gov), fax no. (202) 514-0097, phone confirmation number (202) 514-1547. In requesting a copy from the Consent Decree Library, please enclose a check in the amount of $34 (25 cents per page reproduction cost) payable to the U.S. Treasury or, if by e-mail or fax, forward a check in that amount to the Consent Decree Library at the stated address.

Maureen Katz,
Assistant Chief, Environmental Enforcement Section, Environment and Natural Resources Division.

[FR Doc. 2011-13281 Filed 5-27-11; 8:45 am]

BILLING CODE 4410-15-P